DEPARTMENT OF ENERGY

Office of Energy Efficiency and Renewable Energy

Proposed Agency Information Collection

AGENCY: U.S. Department of Energy.

ACTION: Notice and request for comments.

SUMMARY: The Department of Energy (DOE) invites public comment on a proposed collection of information that DOE is developing for submission to the Office of Management and Budget (OMB) for clearance under the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before January 12, 2009. If you anticipate difficulty in submitting comments within that period, contact the person listed below as soon as possible.

ADDRESSES: Written comments may be sent to Patrick Shipp, Office of Information and Business Management Systems (EE-3C), Office of Energy Efficiency and Renewable Energy, U.S. Department of Energy, Washington, DC 20585, (202) 586-7769; Jody Barringer, Office of Information and Business Management Systems (EE-3C), Office of Energy Efficiency and Renewable Energy, U.S. Department of Energy, Washington, DC 20585, (202) 586-5404; or by e-mail at nppd@ee.doe.gov. The proposed National Priority Project Designation application form is available on-line at the following internet address: http://www.eere.energy.gov/office_eere/docs/npp_application.doc.

SUPPLEMENTARY INFORMATION: This information collection request contains:

(1) Information Collection Request Title: National Priority Project Designation.

(2) Type of Review: New collection.

(3) Purpose: This collection of information is a form that DOE will make available electronically on the internet and which persons or organizations seeking National Priority Project Designation under Section 1405 of the Energy Policy Act of 2005 (Pub. L. 109-58) must use in applying for such designation. The draft application is available at http://www.eere.energy.gov/office_eere/docs/npp_application.doc. Published also in today's Federal Register, DOE published a notice of the guidelines for requesting National Priority Project Designation. The purpose of Presidential designation is to recognize energy projects that have advanced the field of renewable energy technology and contributed to North American energy security.

(4) Respondents: 20 each year.

(5) Estimated Number of Burden Hours: 400 hours annually.

Statutory Authority: Energy Policy Act of 2005, Public Law 109-58.

Issued in Washington, DC on October 31, 2008.
John Mizroch,
Acting Assistant Secretary, Energy Efficiency and Renewable Energy.

[FR Doc. E8-27011 Filed 11-12-08; 8:45 am]

BILLING CODE 6450-01-P